DEPARTMENT OF JUSTICE

Notice of Lodging of Consent Decree Under the Comprehensive Environmental Response, Compensation and Liability Act (CERCLA)

Notice is hereby given that on May 25, 2007, a proposed Consent Decree in United States v. Brown, Civil Action No. 4:05-3586-RBH (D.S.C.), was lodged with the United States District Court for the District of South Carolina. The proposed Consent Decree resolves the United States' claim under Section 107(a) of the Comprehensive Environmental Response, Compensation, and Liability Act, 42 U.S.C. 9607(a), relating to response costs incurred at the Henry Wood Superfund Site, located near Hemingway, Williamsburg County, South Carolina. The Consent Decree requires Hardy D. Brown to pay $140,000 to the United States in partial reimbursement of response costs EPA incurred at the Site.

The Department of Justice will receive for a period of thirty (30) days from the date of this publication comments relating to the proposed Consent Decree. Comments should be addressed to the Assistant Attorney General, Environmental and Natural Resource Division, and either e-mailed to pubcomment-ees.enrd@usdoj.gov or mailed to P.O. Box 7611, U.S. Department of Justice, Washington, DC 20044-7611, and should refer to United States v. Brown, D.J. Ref. 90-11-3-08257.

The proposed Consent Decree may be examined at the Office of the Untied States Attorney, 1441 Main Street, Suite 500, Columbia, DC 29201 and at U.S. EPA Regional IV, 61 Forsyth Street, SW., Atlanta, GA 30303. During the public comment period, the Consent Decree may also be examined on the following Department of Justice Web site, http://www.usdoj.gov/enrd/Consent_Decrees.html. A copy of the proposed Consent Decrees may also be obtained by mail from the Consent Decree Library, P.O. Box 7611, U.S. Department of Justice, Washington, DC 20044-7611 or by Faxing or e-mailing a request to Tonia Fleetwood (tonia.fleetwood@usdoj.gov), Fax no. (202) 514-0097, Phone confirmation no. (202) 514-1547. In requesting a copy from the Consent Decree Library, please enclose a check in the amount of $4 (25 cents per page reproduction cost) payable to the “U.S. Treasury” or, if by e-mail or Fax, forward a check in that amount to the Consent Decree Library at the stated address.

Henry S. Friedman,
Assistant Section Chief, Environmental Enforcement Section, Environmental and Natural Resources Division.

[FR Doc. 07-2815 Filed 6-6-07; 8:45 am]

BILLING CODE 4410-15-M